DEPARTMENT OF COMMERCE

Foreign-Trade Zones Board

[Order No. 1871]

Approval for Expansion of Manufacturing Authority; Foreign-Trade Subzone 41H; Mercury Marine (Marine Propulsion Products); Fond du Lac and Oshkosh, WI

Pursuant to its authority under the Foreign-Trade Zones Act of June 18, 1934, as amended (19 U.S.C. 81a-81u), the Foreign-Trade Zones Board (the Board) adopts the following Order:

Whereas, the Port of Milwaukee, grantee of Foreign-Trade Zone 41, has requested an expansion of the scope of manufacturing authority on behalf of Mercury Marine, operator of Subzone 41H at the Mercury Marine facilities in Fond du Lac and Oshkosh, Wisconsin (FTZ Docket 82-2011, filed 12-19-2011);

Whereas, notice inviting public comment has been given in the Federal Register (76 FR 80331-80332, 12-23-2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand scope of FTZ manufacturing authority to include additional finished products and foreign-origin components, as described in the application and Federal Register notice, is approved, subject to the FTZ Act and the Board's regulations, including Section 400.13.

Signed at Washington, DC, this 30th day of November 2012.
Ronald K. Lorentzen,
Acting Assistant Secretary of Commerce for Import Administration, Alternate Chairman, Foreign-Trade Zones Board.
ATTEST:
Andrew McGilvray,
Executive Secretary.

[FR Doc. 2012-29762 Filed 12-7-12; 8:45 am]

BILLING CODE 3510-DS-P